DEPARTMENT OF COMMERCE

National Oceanic and Atmospheric Administration

RIN 0648-XG577

North Pacific Fishery Management Council; Public Meeting

AGENCY: National Marine Fisheries Service (NMFS), National Oceanic and Atmospheric Administration (NOAA), Commerce.

ACTION: Notice of public meeting.

SUMMARY: The North Pacific Fishery Management Council (Council) Groundfish Plan Teams will meet November 13, 2018 through November 16, 2018.

DATES: The meetings will be held on Tuesday, November 13, 2018 through Friday, November 16, 2018 from 9 a.m. to 5 p.m. Pacific Time.

ADDRESSES: Meeting address: The meetings will be held at the Alaska Fishery Science Center in the Traynor Room 2076 and NMML Room 2079, 7600 Sand Point Way NE, Building 4, Seattle, WA 98115. Teleconference numbers and connection information for the online broadcast of the meeting will be posted at the NPFMC web address provided below.

Council address: North Pacific Fishery Management Council, 605 W 4th Ave., Suite 306, Anchorage, AK 99501-2252; telephone: (907) 271-2809.

FOR FURTHER INFORMATION CONTACT: Diana Stram or Jim Armstrong, Council staff; telephone: (907) 271-2809.

SUPPLEMENTARY INFORMATION:

Agenda

Tuesday, November 13, 2018 to Friday, November 16, 2018

The Plan Teams will compile and review the annual Groundfish Stock Assessment and Fishery Evaluation (SAFE) reports, (including the Economic Report, the Ecosystems/assessment and status report, and the stock assessments for Bering Sea and Aleutian Islands (BSAI) and Gulf of Alaska (GOA) groundfishes), and recommend final groundfish harvest specifications for 2019/20.

The Agenda is subject to change, and the latest version will be posted at http://www.npfmc.org/fishery-management-plan-team/goa-bsai-groundfish-plan-team/.

Public Comment

Public comment letters will be accepted and should be submitted either electronically to Jim Armstrong, Council staff: james.armstrong@noaa.gov or through the mail: North Pacific Fishery Management Council, 605 W 4th Ave., Suite 306, Anchorage, AK 99501-2252. In-person oral public testimony will be accepted at the discretion of the chairs.

Special Accommodations

These meetings are physically accessible to people with disabilities. Requests for sign language interpretation or other auxiliary aids should be directed to Shannon Gleason at (907) 271-2809 at least 7 working days prior to the meeting date.

Dated: October 23, 2018.
Tracey L. Thompson,
Acting Deputy Director, Office of Sustainable Fisheries, National Marine Fisheries Service.

[FR Doc. 2018-23445 Filed 10-25-18; 8:45 am]

BILLING CODE 3510-22-P